DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Gear-Marking Requirement for Atlantic Large Whale Take Reduction Plan.

OMB Control Number: 0648-0364.

Form Number(s): NA.

Type of Request: Regular submission (extension of a current information collection).

Number of Respondents: 4,270.

Average Hours per Response: 5 minutes.

Burden Hours: 10,235.

Needs and Uses: This request is for extension of a current information collection.

The purpose of this collection of information is to enable National Marine Fisheries Service (NMFS) to reduce the serious injury and mortality of large whales, especially right whales, due to incidental entanglement in the United States (U.S.) commercial fishing gear. Any persons setting trap/pot of gillnet gear in some areas of the Atlantic Ocean are required to paint or otherwise mark their gear with one or two color codes, designating the type of gear and area where the gear is set. The surface buoys of this gear need to be marked to identify the vessel or fishery. These marking requirements apply in the various management areas under the Atlantic Large Whale Take Reduction Plan (ALWTRP), developed under the authority of the Marine Mammal Protection Act.

The goals of this collection of information are to obtain more information on where large whales are being entangled and on what type of gear is responsible for the entanglement. This information will allow NMFS to focus further risk reduction measures in certain areas or fisheries, where needed, to meet the goals of the ALWTRP. Also, fisheries observers can provide information to managers on whether regulations need to be modified to address compliance or safety issues.

Affected Public: Business or other for-profit organizations.

Frequency: Annually.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: July 10, 2012.
Gwellnar Banks,
Management Analyst, Office of the Chief Information Officer.

[FR Doc. 2012-17101 Filed 7-12-12; 8:45 am]

BILLING CODE 3510-22-P